NATIONAL FOUNDATION ON THE ARTS AND THE HUMANITIES

Institute of Museum and Library Services; Sunshine Act Meeting of the National Museum and Library Services Board

AGENCY: Institute of Museum and Library Services (IMLS), NFAH.

ACTION: Notice of meeting.

SUMMARY: This notice sets forth the agenda of the forthcoming meeting of the National Museum and Library Services Board. This notice also describes the function of the Board. Notice of the meeting is required under the Sunshine in Government Act.

Time and Date: Tuesday, April 15, 2008 from 2 p.m. to 5 p.m.

Agenda: Meeting of the Fourteenth National Museum and Library Service Board Meeting:

2 p.m.-3:30 p.m. Jury Meeting to consider the National Medals for Library Services (Closed to the Public).

3:45 p.m.-5:15 p.m. Jury Meeting to consider the National Medals for Museum Services (Closed to the Public).

Place: The meetings will be held in the Board room at the Institute of Museum and Library Services, 1800 M Street, NW., 9th Floor, Washington, DC 20036. Telephone: (202) 653-4676.

Time and Date: Wednesday, April 16, 2008 from 12:30 p.m. to 3:30 p.m.

Agenda: Fourteenth National Museum and Library Services Board Meeting:

12:30 p.m.-3:30 p.m. Fourteenth National Museum and Library Services Board Meeting:

I. Welcome.

II. Approval of Minutes.

III. Board Program.

IV. Financial Update.

V. Legislative Update.

VI. Committee Discussion.

VII. Board Update.

VIII. Adjournment.

(Open to the Public.)

Place: The meeting will be held in the Federal City Room of the Phoenix Park Hotel, 520 North Capitol Street, NW., Washington, DC 20001. Telephone: (202) 638-4025.

FOR FURTHER INFORMATION CONTACT: Elizabeth Lyons, Special Events and Board Liaison, Institute of Museum and Library Services, 1800 M Street, NW., 9th Floor, Washington, DC 20036. Telephone: (202) 653-4676.

SUPPLEMENTARY INFORMATION: The National Museum and Library Services Board is established under the Museum and Library Services Act, 20 U.S.C. Section 9101 et seq. The Board advises the Director of the Institute on general policies with respect to the duties, powers, and authorities related to Museum and Library Services. The Jury Meetings to consider nominations for the National Medal for Museum and Library Services on Tuesday, April 15, 2008, will be closed pursuant to subsections (c)(4) and (c)(9) of section 552b of Title 5, United States Code because the Board will consider information that may disclose: Trade secrets and commercial or financial information obtained from a person and privileged or confidential; and information the premature disclosure of which would be likely to significantly frustrate implementation of a proposed agency action. The meeting from 12:30 p.m. until 3:30 p.m. on Wednesday, April 16, 2008 is open to the public.

If you need special accommodations due to a disability, please contact: Institute of Museum and Library Services, 1800 M Street, NW., 9th Fl., Washington, DC 20036. Telephone: (202) 653-4676; TDD (202) 653-4614 at least seven (7) days prior to the meeting date.

Dated: March 24, 2008.
Kate Fernstrom,
Chief of Staff.

[FR Doc. E8-6541 Filed 3-31-08; 8:45 am]

BILLING CODE 7036-01-M